DEPARTMENT OF TRANSPORTATION

Federal Aviation Administration

14 CFR Part 39

[Docket No. FAA-2017-0573; Directorate Identifier 2017-SW-001-AD; Amendment 39-18919; AD 2017-12-04]

RIN 2120-AA64

Airworthiness Directives; Airbus Helicopters

AGENCY: Federal Aviation Administration (FAA), Department of Transportation (DOT).

ACTION: Final rule; request for comments.

SUMMARY: We are superseding airworthiness directive (AD) 2016-20-04 for Airbus Helicopters Model SA341G and SA342J helicopters. AD 2016-20-04 prohibited autorotation training flights until the landing gear rear crosstube (crosstube) was inspected. This new AD adds additional part-numbered crosstubes to the applicability and revises the hardness criteria for the inspection. This AD is prompted by a determination that an additional part-numbered crosstube may have the same unsafe condition. The actions of this AD are intended to detect and prevent an unsafe condition on these helicopters.

DATES: This AD becomes effective June 27, 2017.

The Director of the Federal Register approved the incorporation by reference of a certain document listed in this AD as of June 27, 2017.

We must receive comments on this AD by August 11, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0573; or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.airbushelicopters.com/website/technical-expert. You may review the referenced service information at the FAA, Office of the Regional Counsel, Southwest Region, 10101 Hillwood Pkwy., Room 6N-321, Fort Worth, TX 76177. It is also available on the Internet at http://www.regulations.gov by searching for and locating Docket No. FAA-2017-0573.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On September 16, 2016, we issued AD 2016-20-04 (81 FR 67904, October 3, 2016), which prohibited autorotation training flights by amending the rotorcraft flight manual (RFM) and installing a placard on the instrument panel. AD 2016-20-04 also required, within 25 hours time-in-service (TIS), inspecting each crosstube with part-number (P/N) 341A415201.00 or P/N 341A415201.01 to determine whether the metal is coated and removing all coating if it is present. Once there is no coating, AD 2016-20-04 required determining the hardness of the crosstube, replacing the crosstube if it did not meet the specified hardness criteria, and then removing the autorotation training flight prohibition.

AD 2016-20-04 was prompted by Emergency AD No. 2016-0073-E, dated April 13, 2016 (AD 2016-0073-E), issued by EASA, which is the Technical Agent for the Member States of the European Union, to correct an unsafe condition for Airbus Helicopters Model SA341G and SA342J helicopters with a crosstube P/N 341A415201.00 or P/N 341A415201.01. EASA stated that two reported failures of a crosstube had occurred during maintenance and towing operations, which resulted in the helicopters dropping or tipping over. EASA further stated that excessive hardness of the crosstube material, combined with inter-granular corrosion initiation, may have affected the structural integrity of the crosstube. EASA advised that this condition could lead to failure of the crosstube and dropping or tipping over of the helicopter. To address the unsafe condition, EASA AD 2016-0073-E required identifying the affected crosstubes, implementing a temporary prohibition of autorotation training flights on affected helicopters by amending the RFM and installing a placard, inspecting the hardness of each affected crosstube, and replacing any crosstubes that do not meet the hardness criteria.

Actions Since AD 2016-20-04 Was Issued

Since we issued AD 2016-20-04, EASA has issued Emergency AD No. 2016-0131-E, dated July 5, 2016 (AD 2016-0131-E), which superseded AD 2016-0073-E. EASA advises that after AD 2016-0073-E was issued, Airbus Helicopters discovered that crosstubes with P/N 341A415201.02 could be affected by the same unsafe condition. EASA AD 2016-0131-E adds this crosstube P/N to the applicability and retains the requirements of AD 2016-0073-E.

Additionally, we determined there is no unsafe condition in most autorotation training. An unsafe condition exists only if the helicopter touches the ground or a run-on landing (also called a running landing, where the helicopter slides to a stop on landing) is completed.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information Under 1 CFR Part 51

Airbus Helicopters has issued Alert Service Bulletin (ASB) No. SA341/342-32.08, Revision 2, dated October 18, 2016 (ASB 32.08), which specifies removing the crosstube, checking its hardness, and replacing the crosstube if it fails the hardness test. ASB 32.08 also specifies prohibiting autorotative landing training by installing a placard on the instrument panel. Finally, this revision of ASB 32.08 extends the permissible hardness values range for the Vickers test method from ≤434 to ≤454.

This service information is reasonably available because the interested parties have access to it through their normal course of business or by the means identified in the ADDRESSES section.

Other Related Service Information

We also reviewed Aerospatiale (now Airbus Helicopters) Flight Manuals SA 341G, Issue 2, dated December 1974, and SA 342J, Issue 1, dated April 27, 1976. These manuals provide various procedures, limitations, and performance and loading information.

AD Requirements

This AD prohibits full touchdown autorotation training and run-on landing training before further flight by amending the RFM and installing a limitation placard on the instrument panel.

This AD also requires, within 25 hours TIS, applying a solution to the crosstube to determine whether the metal is coated and removing all coating within a specific area. Once there is no coating, this AD requires inspecting the hardness of the crosstube and replacing the crosstube if it does not meet the hardness criteria. After replacing the crosstube or determining the crosstube meets the hardness criteria, the placard and RFM amendment prohibiting autorotation landing training and run-on landing training may be removed.

Differences Between This AD and the EASA AD

EASA requires the hardness inspection to be completed within six months, while we require the hardness inspection to be completed within 25 hours TIS. The EASA AD prohibits all autorotation training flights, while this AD only prohibits full touchdown autorotation training and run-on landing training.

Costs of Compliance

We estimate that this AD affects 20 helicopters of U.S. Registry.

We estimate that operators may incur the following costs in order to comply with this AD. At an average labor rate of $85 per hour, amending the RFM and installing a placard will require about 0.5 work-hour, for a cost of $43 per helicopter and $860 for the U.S. fleet. Inspecting a crosstube will require about 8 work-hours, and the required materials cost is minimal, for a cost of $680 per helicopter and $13,600 for the U.S. fleet.

If required, replacing a crosstube will require 8 work-hours, and required parts will cost $11,952, for a cost of $12,632 per helicopter.

FAA's Justification and Determination of the Effective Date

Providing an opportunity for public comments prior to adopting these AD requirements would delay implementing the safety actions needed to correct this known unsafe condition. Therefore, we find that the risk to the flying public justifies waiving notice and comment prior to the adoption of this rule because certain operations must be prohibited before further flight until the required corrective actions are accomplished. Those corrective actions must then be accomplished within 25 hours TIS, a short time interval for these model helicopters.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-20-04, Amendment 39-18670 (81 FR 67904, October 3, 2016), and adding the following new AD:

2017-12-04 Airbus Helicopters: Amendment 39-18919; Docket No. FAA-2017-0573; Directorate Identifier 2017-SW-001-AD.

(a) Applicability

This AD applies to Airbus Helicopters Model SA 341G and Model SA 342J helicopters with a landing gear rear crosstube (crosstube) part number 341A415201.00, 341A415201.01, or 341A415201.02, certificated in any category.

(b) Unsafe Condition

This AD defines the unsafe condition as incorrect hardness of the crosstube, which could result in failure of the crosstube and subsequent dropping or tipping of the helicopter.

(c) Affected ADs

This AD supersedes AD 2016-20-04, Amendment 39-18670 (81 FR 67904, October 3, 2016).

(d) Effective Date

This AD becomes effective June 27, 2017.

(e) Compliance

You are responsible for performing each action required by this AD within the specified compliance time unless it has already been accomplished prior to that time.

(f) Required Actions

(1) Before further flight:

(i) Amend the rotorcraft flight manual (RFM) by inserting a copy of this AD or by making pen-and-ink changes in Section 1, Limitations, by adding the following: AUTOROTATION TRAINING FLIGHTS TO A LANDING AND RUN-ON (RUNNING) LANDING TRAINING ARE PROHIBITED. A landing occurs when the skids contact the ground or other surface and bear the weight of the helicopter regardless of the duration of the landing and regardless of whether the engine is shut down.

(ii) Install a placard on the instrument panel in full view of the pilots that states the following: AUTOROTATION TRAINING FLIGHTS TO A LANDING AND RUN-ON (RUNNING) LANDING TRAINING ARE PROHIBITED.

(2) Within 25 hours time-in-service:

(i) Inspect the crosstube to determine whether the metal is coated. Make a copper sulfate solution by following the Accomplishment Instructions, paragraph 3.B.2.b.1., of Airbus Helicopters Alert Service Bulletin (ASB) No. SA341/342-32.08, Revision 2, dated October 18, 2016 (ASB 32.08). Apply 2 to 3 drops of the solution to Area Z in Figure 1 of ASB 32.08 and wait 10 to 15 seconds. If a dark mark appears as shown in Area 2 of Figure 3 of ASB 32.08, there is no metal coating. If a light mark appears as shown in Area 4 of Figure 3 of ASB 32.08, remove all metal coating in Area Z of Figure 1 of ASB 32.08.

(ii) Inspect the hardness of the crosstube by using the criteria in the table under Paragraph 3.B.2.c. of ASB 32.08. If the hardness is not within the value range in the table, before further flight, replace the crosstube. If the hardness is within the value range in the table, apply corrosion protectant to Area Z in Figure 1 of ASB 32.08.

(iii) Remove the RFM limitation and the instrument panel placard required by paragraphs (f)(1)(i) and (f)(1)(ii) of this AD.

(g) Credit for Actions Previously Completed

Compliance with AD 2016-20-04 (81 FR 67904, October 3, 2016) before the effective date of this AD is considered acceptable for compliance with this AD.

(h) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Aerospatiale (now Airbus Helicopters) Flight Manuals SA 341G, Issue 2, dated December 1974, and SA 342J, Issue 1, dated April 27, 1976, which are not incorporated by reference, contain additional information about the subject of this AD. For service information identified in this AD, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

(2) The subject of this AD is addressed in European Aviation Safety Agency (EASA) AD No. 2016-0131-E, dated July 5, 2016. You may view the EASA AD on the Internet at http://www.regulations.gov by searching for and locating it in Docket No. FAA-2017-0573.

(j) Subject

Joint Aircraft Service Component (JASC) Code: 3213 Main Landing Gear Strut/Axel/Truck.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. SA341/342-32.08, Revision 2, dated October 18, 2016.

(ii) Reserved.

(3) For Airbus Helicopters service information identified in this AD, contact Airbus Helicopters, 2701 N. Forum Drive, Grand Prairie, TX 75052; telephone (972) 641-0000 or (800) 232-0323; fax (972) 641-3775; or at http://www.airbushelicopters.com/website/technical-expert.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 26, 2017.
Scott A. Horn,
Acting Manager, Rotorcraft Directorate, Aircraft Certification Service.

[FR Doc. 2017-11986 Filed 6-9-17; 8:45 am]

BILLING CODE 4910-13-P